DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 22, 2001.

Interested persons are invited to submit written comments regarding the subject matter of the investigations to the Director, Division of Trade Adjustment Assistance, at the address shown below, not later than October 22, 2001.

The petitions filed in this case are available for inspection at the Office of the Director, Division of Trade Adjustment Assistance, Employment and Training Administration, U.S. Department of Labor, Room C-5311, 200 Constitution Avenue, NW., Washington, DC 20210.

Signed at Washington, DC, this 27th day of August, 2001.
Edward A. Tomchick,
Director, Division of Trade Adjustment Assistance.

Appendix
[Petitions Instituted On 8/27/2001]
TA-W | SAbject firm (Petitioners) | Location | Date of petition | Product(s)
39,882 | GHSP, Inc. (PACE) | Grand Haven, MI | 08/10/2001 | Front Bezels.
39,883 | FB Johnston Group (Comp) | Hillsborough, NC | 08/07/2001 | Telecommunication Products.
39,884 | VF Playwear (Wrks) | Cenreville, AL | 08/02/2001 | Children's Clothing.
39,885 | Conveyco Manufacturing (Wrks) | Clackamas, OR | 08/05/2001 | Wood conveying chain.
39,886 | Consolidated Steel Serv. (Wrks) | Fallentimber, PA | 08/08/2001 | Rail car parts.
39,887 | Huntsman Polymers (Wrks) | Odessa, TX | 08/10/2001 | Plastic Products.
39,888 | Alcatel USA (Wrks) | Raleigh, NC | 08/02/2001 | Printed circuit board for communications.
39,889 | Wisne Automation (WAEA) | Novi, MI | 08/06/2001 | Capital Equipment for Automobiles.
39,890 | Cutter-Hammer Power (Comp) | Pittsburgh, PA | 08/06/2001 | Electronic Devices & communication Prod.
39,891 | CMS North America (Wrks) | Calidonia, MI | 08/06/2001 | CNC machines.
39,892 | A and M Apparel, Inc. (Wrks) | Hamilton, AL | 08/07/2001 | Tee Shirts.
39,893 | Union Apparel, Inc. (Wrks) | Norvelt, PA | 08/08/2001 | Men's and ladies' blazers and suit coats.
39,894 | Del-Met Corp (Comp) | Portland, TN | 08/01/2001 | Plastic auto parts.
39,895 | Crossville Rubber, Inc. (USWA) | Crossville, TN | 08/15/2001 | Industrial & commercial rubber floor mat.
39,896 | KPT, Inc. (Wrks) | Bloomfield, IN | 08/07/2001 | Glazed ceramic tile.
39,897 | Birmingham Steel (Wrks) | Cuyahoga Hts, OH | 08/09/2001 | Wire rod and bar.
39,898 | Multilayer Technology Inc (Wrks) | Austin, TX | 08/10/2001 | Printed raw circuit boards.
39,899 | Tyco Electronics Corp (Wrks) | East Berlin, PA | 08/03/2001 | Electrical connectors.
39,900 | Bonifay Manufacturing (Comp) | Bonifay, FL | 08/10/2001 | Men's and Boys' Knit Shirts.
39,901 | Providence Metallizing Co (Comp) | Pawtucket, RI | 08/08/2001 | Metal and plastic parts for lamps.
39,902 | Suncook Trim Corp (Comp) | Allenstown, NH | 08/16/2001 | Weave fabric labels.
39,903 | New Holland North America (Comp) | Belleville, PA | 08/10/2001 | Skid loaders, hay rakes, and mowers.
39,904 | Tiffany Lincoln Textiles (Wrks) | New York, NY | 08/13/2001 | Imported fabrics used for sportswears.
39,905 | Simonds Industries (Wrks) | Newcomerstown, OH | 07/28/2001 | Steel files.
39,906 | Metals USA (Wrks) | Youngstown, OH | 08/14/2001 | Steel sheets and blanks.
39,907 | Alcoa Fujikura Ltd (Wrks) | Houston, MS | 08/13/2001 | Fiber Optic Telecommunication.
39,908 | Cleveland Caroknit (Wrks) | Lawndale,NC | 08/13/2001 | Knit Apparel.
39,909 | R.F. Monolithics, Inc. (Comp) | Dallas, TX | 08/13/2001 | Electronic Components.
39,910 | Delphi Harrison Thermal (Wrks) | Lockport, NY | 08/14/2001 | Automotive Products.
39,911 | ABC Pressing and Finish (Wrks) | Los Angeles, CA | 08/13/2001 | Sewing machine.
39,912 | Allen Edmonds/Maine Shoe (Wrks) | Wilton, ME | 08/16/2001 | Men's handsewn casual shoes.
39,913 | Gilbert Wood Products (Wrks) | Greenwood, ME | 08/13/2001 | Rolling pin, cutting board & knife handle.
39,914 | Reed Manufacturing Co (Comp) | Tupelo, MS | 08/08/2001 | Denim jeans, shorts and casual pants.
39,915 | General Cable (EESMWA) | Montoursville, PA | 08/09/2001 | Dryer cords for construction use.
39,916 | Steco and Co. (Wrks) | Birmingham, AL | 06/19/2001 | Buy & Sell Refractory Firebrick.
39,917 | Curtron Curtains, Inc. (Wrks) | Travelers Rest, SC | 08/10/2001 | Curtains.

[FR Doc. 01-25472 Filed 10-11-01; 8:45 am]

BILLING CODE 4510-30-M